DEPARTMENT OF HEALTH AND HUMAN SERVICES

Administration for Community Living

Announcing the Intent To Award a Single-Source Supplement for the National Paralysis Resource Center (PRC)

AGENCY: Administration for Community Living, HHS.

ACTION: Notice.

SUMMARY: The Administration for Community Living (ACL) announces the intent to award a single-source supplement to the current cooperative agreement held by the Christopher and Dana Reeve Foundation. The National Paralysis Resource Center (NPRC) is operated by the Christopher and Dana Reeve Foundation and offers important programmatic opportunities for persons with disabilities and older adults. The NPRC provides comprehensive information for people living with spinal cord injury, paralysis, and mobility-related disabilities and their families. Resources include information and referral by phone and email in multiple languages; a peer and family support mentoring program; a military and veterans' program; multicultural outreach services; multiple quality of life grants; and a national website. The administrative supplement for FY 2024 will be in the amount of $1,300,000, bringing the total award for FY 2024 to $10,000,000.

DATES: The supplement award will be issued to extend the project period to August 1, 2024, through June 30, 2025.

FOR FURTHER INFORMATION CONTACT: For further information or comments regarding this program supplement, contact Elizabeth Leef, U.S. Department of Health and Human Services, Administration for Community Living, Administration on Disabilities, Office of Disability Services Innovations; telephone (202) 475-2482; email elizabeth.leef@acl.hhs.gov.

SUPPLEMENTARY INFORMATION: The purpose of the supplemental funding is to support the expansion the National Paralysis Resource Center to improve the health and quality of life of individuals living with paralysis and their families by raising awareness of and facilitating access to a broad range of services relevant to individuals with paralysis. With the additional funding, the NPRC will work to expand the National Resource and Information Center; increase the health and quality of life of Americans with disabilities living with paralysis; increase support and resources to people with paralysis, their families and caregivers; expand collaboration with federal agencies and other national organizations that have a vested interested in the paralysis community; and strengthen performance measures.

Program Name: National Paralysis Resource Center.

Recipient: Christopher and Dana Reeve Foundation.

Period of Performance: The supplement award will be issued for the current project period, July 1, 2024, through June 30, 2025.

Award Amount: $1,300,000.

Award Type: Cooperative Agreement.

Basis for Award: The Christopher and Dana Reeve Foundation is currently funded to carry out the National Paralysis Resource Center (NPRC) for the period of July 1, 2024, through June 30, 2025. As a result of the 2024 budget, Congress appropriated additional funds for the expansion of the NPRC. It would be unnecessarily time consuming and disruptive to the NPRC project and the beneficiaries being served for the ACL to establish a new grantee at this time when critical services are presently being provided in an efficient manner.

Statutory Authority: This program is authorized under Section 317 of the Public Health Service Act (42 U.S.C. 247(b-4)); Consolidated and Further Continuing Appropriations Act, 2016, Public Law 114-113 (Dec. 18, 2015).

Dated: July 10, 2024.
Alison Barkoff,
Principal Deputy Administrator for the Administration for Community Living, performing the delegable duties of the Administrator and the Assistant Secretary for Aging.

[FR Doc. 2024-15611 Filed 7-15-24; 8:45 am]

BILLING CODE 4154-01-P